GENERAL SERVICES ADMINISTRATION

Maximum Per Diem Rates for Colorado, New York, Texas, and Utah

AGENCY: Office of Governmentwide Policy, General Services Administration (GSA).

ACTION: Notice of Per Diem Bulletin 03-3, revised continental United States (CONUS) per diem rates.

SUMMARY: To improve the ability of the per diem rates to meet the lodging demands of Federal travelers to high cost travel locations, the General Services Administration (GSA) has integrated the contracting mechanism of the new Federal Premier Lodging Program (FPLP) into the per diem rate-setting process. An analysis of FPLP contracting actions and the lodging rate survey data reveals that the maximum per diem rate should be adjusted to provide for the reimbursement of Federal employees' lodging expenses covered by the per diem. This notice announces the new per diem rates for Colorado, New York, Texas, and Utah.

DATES: This notice is effective August 19, 2003.

FOR FURTHER INFORMATION CONTACT: For clarification of content, contact Joddy P. Garner, Office of Governmentwide Policy, Travel Management Policy, at (202) 501-4857. Please cite Notice of Per Diem Bulletin 03-3.

SUPPLEMENTARY INFORMATION:

A. Background

In the past, properties in high cost travel areas have been under no obligation to provide lodging to Federal travelers at the prescribed per diem rate. Thus, GSA established the FPLP to contract directly with properties in high cost travel markets to make available a set number of rooms to Federal travelers at contract rates. FPLP contract results along with the lodging survey data are integrated together to determine reasonable per diem rates that more accurately reflect lodging costs in these areas. In addition, the FPLP will enhance the Government's ability to better meet its overall room night demand, and allow travelers to find lodging close to where they need to conduct business. After an analysis of this additional data, the maximum lodging amount published in the Federal Register at 67 FR 56160, August 30, 2002 and amended at 67 FR 69634, November 18, 2002, 68 FR 25034, May 9, 2003, and 68 FR 31706, May 28, 2003, is being changed in the following locations:

State of Colorado

• City of Colorado Springs, including El Paso County.

State of New York

• Borough of Brooklyn.

State of Texas

• City of Austin, including Travis County.

• City of Houston, including Harris County.

State of Utah

• City of Salt Lake City, including Salt Lake County.

B. Change in Standard Procedure

Since per diem rates frequently change, effective April 28, 2003 (68 FR 22314), the Office of Governmentwide Policy (OGP), GSA, will issue/publish the CONUS per diem rates, formerly published in Appendix A to 41 CFR Chapter 301, solely on the Internet at http://www.gsa.gov/perdiem. This new process will ensure more timely increases or decreases in per diem rates established by GSA for Federal employees on official travel within CONUS. This notice advises agencies of revisions in per diem rates prescribed by OGP for CONUS. Notices published periodically in the Federal Register, such as this one, now constitute the only notification of revisions in CONUS per diem rates to agencies.

Dated: August 8, 2003.
G. Martin Wagner,
Associate Administrator.

[FR Doc. 03-21167 Filed 8-18-03; 8:45 am]

BILLING CODE 6820-14-M